SECURITIES AND EXCHANGE COMMISSION

Sunshine Act Meeting

FEDERAL REGISTER CITATION OF PREVIOUS ANNOUNCEMENT: [79 FR 3261, January 17, 2014]

STATUS: Open Meeting.

PLACE: 100 F Street NE., Washington, DC.

DATE AND TIME OF PREVIOUSLY ANNOUNCED MEETING: Wednesday, January 22, 2014 at 10:00 a.m.

CHANGE IN THE MEETING: Cancellation of Meeting.

The Open Meeting scheduled for Wednesday, January 22, 2014 at 10:00 a.m. was cancelled.

For further information please contact the Office of the Secretary at (202) 551-5400.

Dated: January 22, 2014.
Elizabeth M. Murphy,
Secretary.

[FR Doc. 2014-01513 Filed 1-23-14; 11:15 am]

BILLING CODE 8011-01-P